FEDERAL COMMUNICATIONS COMMISSION

47 CFR Part 73

[DA 04-235; MB Docket No. 02-335; RM-10545]

Radio Broadcasting Services; Coopersville, Hart, and Pentwater, MI

AGENCY: Federal Communications Commission.

ACTION: Final rule.

SUMMARY: In response to a Notice of Proposed Rulemaking, 67 FR 71925, December 30, 2002, this document grants a petition for rulemaking filed jointly by Waters Broadcasting Corporation, licensee of Station WCXT, Hart, Michigan, and Synergy Media, Inc., licensee of Station WWKR, Pentwater, Michigan. Channel 287B is substituted for Channel 287C2 at Hart and is reallotted from Hart, Michigan, to Coopersville, Michigan, with the license for Station WCXT modified to specify operation on Channel 287B at Coopersville. The Audio Division granted a minor change application (BPH-20020116AAR) on May 1, 2002, which allowed Station WCXT to specify operation on Channel 287C2 in lieu of Channel 287C1 at Hart, Michigan. Station WCXT received a construction permit on Channel 231C3 is reallotted from Pentwater, Michigan, to Hart, Michigan, to provide continuing service at Hart with the license for Station WWKR modified accordingly. The coordinates for Channel 287B at Coopersville are 43-17-20 and 86-02-51. Channel 231C3 is allotted at Hart at coordinates 43-51-33 and 86-18-27. The counterproposal filed by Fort Bend Broadcasting Company has been dismissed. With this action this proceeding is terminated.

DATES: Effective March 22, 2004.

FOR FURTHER INFORMATION CONTACT: Kathleen Scheuerle, Media Bureau, (202) 418-2180.

SUPPLEMENTARY INFORMATION: This is a synopsis of the Commission's Report and Order, MB Docket No. 02-335, adopted February 4, 2004, and released February 6, 2004. The reallotment from Hart to Coopersville is conditioned on the reallotment of Station WWKR, Channel 231C3, Pentwater, Michigan, to Hart, Michigan. Operating authority for Station WCXT, Channel 287B at Coopersville may not be granted until operations have commenced by Station WWKR, Channel 231C3, at Hart, Michigan. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

2. Section 73.202(b), the Table of FM Allotments under Michigan, is amended by adding Coopersville, Channel 287B, by removing Channel 287C1 and adding Channel 231C3 at Hart, and by removing Channel 231C3 at Pentwater.

Federal Communications Commission.
John A. Karousos,
Assistant Chief, Audio Division, Media Bureau.

[FR Doc. 04-3970 Filed 2-23-04; 8:45 am]

BILLING CODE 6712-01-P